DEPARTMENT OF TRANSPORTATION

Federal Aviation Administration

Notice of Cancellation of Environmental Impact Statement for the Dayton International Airport, Dayton, OH

AGENCY: Federal Aviation Administration, Department of Transportation.

ACTION: Cancellation of Environmental Impact Statement process.

SUMMARY: On July 31, 2001, the Federal Aviation Administration (FAA), Great Lakes Region, published in the Federal Register a Notice of Intent to prepare an Environmental Impact Statement (EIS) and hold a Public Scoping Meeting at Dayton International Airport (Volume 66, Number 135, FR 36821-36822). The EIS and Public Scoping Meeting were to address proposed runway shifts and extensions to runways 6R/24L and 18/36 at the airport. Three public scoping meetings were held on August 14, 15, and 16, 2001. Additional workshops to discuss purpose and need were held on June 4 and 5, 2002.

On March 20, 2006 the FAA received notification from the Dayton International Airport that it wished to cancel the EIS. As such, the FAA is hereby canceling the EIS process.

Point of Contact: Mr. Brad Davidson, Environmental Protection Specialist, FAA Great Lakes Region, Detroit Airports District Office, 11677 South Wayne Road, Suite 107, Romulus, MI 48174 (734) 229-2900.

Issued in Detroit, Michigan, April 13, 2006.
Irene R. Porter,
Manager, Detroit Airport District Office, FAA, Great Lakes Region.

[FR Doc. 06-4188 Filed 5-3-06; 8:45 am]

BILLING CODE 4910-13-M